DEPARTMENT OF TRANSPORTATION

Federal Motor Carrier Safety Administration

[Docket No. FMCSA-2016-0275]

Agency Information Collection Activities; Approval of a New Information Collection Request: Commercial Driver's License (CDL) Skills Testing Delays

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This ICR is to collect data on the delays, by State, that applicants face when scheduling a CDL skills test. This information collection and subsequent data analysis is required by section 5506 of the Fixing America's Surface Transportation Act, 2015 (FAST Act).

DATES: Please send your comments by April 20, 2017. OMB must receive your comments by this date in order to act quickly on the ICR.

ADDRESSES: All comments should reference Federal Docket Management System (FDMS) Docket Number FMCSA-2016-0275. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Nicole Michel, Office of Analysis, Research, and Technology/Research Division, Department of Transportation, Federal Motor Carrier Safety Administration, 6th Floor, West Building, 1200 New Jersey Avenue SE., Washington, DC 20590-0001. Telephone: 202-366-4354; Email Address: nicole.michel@dot.gov. Office hours are from 9 a.m. to 5 p.m., Monday through Friday, except Federal Holidays.

SUPPLEMENTARY INFORMATION: Title: Survey on CDL Skills Test Delays.

OMB Control Number: 2126-00XX.

Type of Request: New information collection.

Respondents: Annual survey: State CDL Coordinators; Optional quarterly report of delay time at each test site: State CDL Coordinators and State CDL test location staff.

Estimated Number of Respondents: Annual survey: 51 State CDL Coordinators, one from each of the 50 States, and one from Washington, DC. Optional quarterly report of delay time at each test site: 1,230 (51 State CDL Coordinators and 1,179 State CDL testing location representatives).

Estimated Time per Response: Annual survey: 2.3 hours (120 minutes to gather data + 17.5 minutes to respond to survey). Optional quarterly report of delay time at each test site: 30 minutes for State CDL Coordinator to gather information and 1 minute for State CDL test location representative to report current delay time at test site.

Expiration Date: N/A. This is a new information collection.

Frequency of Response: Annually; In addition, respondents have the option to report delay time at test sites on a quarterly basis.

Estimated Total Annual Burden: Annual survey: 116.9 hours (2.3 hours × 51 respondents = 116.9 hours). Optional quarterly report of delay time at each test site: 180.6 hours [4 quarters × (30 minutes × 51 State CDL Coordinators + 1 minute × 1179 State CDL test location representatives) = 180.6 hours] .

Background

Section 5506 of the FAST Act (Pub. L. 114-94, Dec. 4, 2015, 49 U.S.C. 31305 note) requires FMCSA to produce a study on CDL skills test delays on an annual basis. The requirements of the study are to submit a report describing:

“(A) the average wait time from the date an applicant requests to take a skills test to the date the applicant has the opportunity to complete such test;

(B) the average wait time from the date an applicant, upon failure of a skills test, requests a retest to the date the applicant has the opportunity to complete such retest;

(C) the actual number of qualified commercial driver's license examiners available to test applicants; and

(D) the number of testing sites available through the State department of motor vehicles and whether this number has increased or decreased from the previous year.”

The report is also required to describe “specific steps the Administrator is taking to address skills testing delays in States that have average skills test or retest wait times of more than 7 days.” If this information collection does not occur, FMCSA will not be able to fulfill its mandate as directed by the FAST Act, noted above, by conducting a study on CDL skills test delays, as there is currently no repository of information on skills tests and the required data is not available for all States at this time. If information collection occurs on a less-than-annual basis, beyond negating its statutory duties, as discussed above, FMCSA will not be able to make observations on yearly trends or analyze differences in each State on a year-to-year basis.

FMCSA has met with several stakeholders, including the American Association of Motor Vehicle Administrators (AAMVA), the Commercial Vehicle Training Association, and State Driver Licensing Agencies to ensure that the information being collected in this survey has not already been collected, is not currently available to FMCSA, and is not in the process of being collected. Extensive background research was conducted to ensure the study was not duplicative. A previous study, done by the Government Accountability Office in 2015, asked for similar information but did not produce specific enough data to be used in this study.

The survey will be sent out via email, with the option for online completion using SurveyMonkey®. Each State can respond via email or the online survey depending on which method is more convenient for the respondent. The welcome letter will indicate that FMCSA prefers responses via the online survey tool.

The information collected will be published annually in a report to the Committee on Commerce, Science, and Transportation of the Senate and the Committee on Transportation and Infrastructure of the House of Representatives. The first report is due to Congress no later than June 1, 2017. FMCSA plans to have a draft report available by June 1, 2017, with the finalized report submitted to congress in August 2017. Subsequent reports will be published on an annual basis thereafter.

Summary of Public Comments Received

On October 5, 2016, FMCSA published a notice in the Federal Register (81 FR 69184) with a 60-day public comment period to announce this proposed information collection. The agency received eight comments in response to this notice.

Four commenters provided insights into States' current CDL skills testing delays, including an applicant's average wait time to complete a skills test; an applicant's average wait time to complete a retest; the number of qualified commercial driver's license examiners; and the number of State testing sites. FMCSA appreciates this information, and encourages each State to fill out the complete survey when it is administered.

Two commenters indicated that they believe the information collection is necessary and can provide useful information. One commenter noted that FMCSA's primary mission is to reduce crashes, injuries, and fatalities involving large trucks and buses, and that this survey does not advance FMCSA's mission. While FMCSA agrees that the correlation between CDL skills test and increased safety is not immediately apparent, FMCSA believes skills testing is an integral part of truck and bus safety mission. In addition, as discussed above, FMCSA is required to collect this information at this interval based on the FAST Act.

While two commenters indicated that they believe the burden estimate seems reasonable, one commenter strongly disagreed. The commenter estimated that annual burden would be between 200 and 270 hours because the State does not currently track the information subject to the ICR. FMCSA has re-evaluated the burden estimate based on this feedback and feels that the new burden estimate accurately reflects the commenter's concerns. FMCSA also believes the commenter was accounting for a much more in depth analysis, which FMCSA appreciates but does not plan to require. FMCSA has revised the instructions and definitions accordingly to ensure States do not feel unduly burdened by the information collection.

FMCSA received valuable feedback on ways to enhance the quality, usefulness, and clarity of the collected information. Specific suggestions related to the inclusion of additional questions and better defined terms and phrases.

One commenter requested that FMCSA ensure data is as detailed as possible. FMCSA believes the data will become more robust after the first year, as States will be able to better prepare for the annual survey.

One commenter suggested FMCSA inquire as to the source of States' reported estimates, while another commenter voiced concern that there may not be enough space for providing feedback on how estimates were developed, thereby introducing error in the analysis portion of this study. FMCSA has revised the survey to include questions pertaining to how the data was collected and calculated, and the sources used to calculate delays, thereby allowing for more meaningful analysis and more meaningful future data collection.

Several commenters indicated that FMCSA should inquire about mandatory waiting periods for skills testing and retesting. FMCSA has covered this area in multiple questions in the survey to ensure mandatory waiting periods are accurately understood in addition to skills testing delays, as both contribute to the time it takes an applicant to receive their CDL. FMCSA has ensured that mandatory wait times are collected separately from delay periods throughout the ICR.

One commenter requested FMCSA include a question pertaining to shortest and longest wait times. FMCSA has revised the survey to include this question, but has also included an option for States to indicate they cannot collect this information. FMCSA understands that some States will not be able to produce information pertaining to this data.

One commenter was concerned with the definition of “average wait time,” when it should be calculated, and how it should be calculated. In addition, the commenter noted that “average wait time” will vary by region, or by testing location. FMCSA has included detailed instructions in the survey to address these concerns. Furthermore, it has provided the option for States to either provide wait times for all testing locations, or to provide a minimum wait time (i.e. the wait time at a rural, non-popular test site), the maximum (the wait time at the busiest test site), and the average wait time for medium-density test sites. Finally, FMCSA is providing an option for seasonal surveys tailored to each State to minimize burden, as discussed in further detail below.

The commenter also requested FMCSA clarify what is meant by “opportunity to complete such test.” While FMCSA understands some applicants may choose a later test date for personal reasons, a delay incurred by the applicant's personal reasons is not something the State has control over and should not be reflected in this study, to the best ability of the State. FMCSA understands some States may not be able to separate the two, in which case personal delays may be grouped together with test scheduling delays.

One commenter recommended the AAMVA add the required information to additional reports in Commercial Skills Test Information Management System (CSTIMS) to satisfy the information collection request. During previous conversations with AAMVA, FMCSA determined that an additional field to determine if the delay is due to a customer request or actual delay would require funding and time that is not currently available. Furthermore, given that not all States currently use CSTIMs, FMCSA cannot justify pursuing this route at this time, but will continue discussions with AAMVA for future efforts, as appropriate.

Several comments addressed how the burden could be minimized without reducing the quality of collected information. One commenter indicated that they believe the burden is minimal as it stands. Another commenter suggested that as States become accustomed to this annual data collection, States will be able to collect data in a timelier manner.

One commenter suggested the burden could be minimized by not requiring a year's worth of data to be accumulated and calculated. The commenter suggested that FMCSA distribute a quarterly “snapshot” survey to collect wait times across different seasons and different locales, or to work with AAMVA to readily produce this information in CSTIMs. FMCSA did not intend for every CDL skills test to be included in the average and has provided more concrete instructions for States to collect data that is meaningful while not being overly burdensome. FMCSA has considered the suggestion for a quarterly snapshot survey, and will include a voluntary quarterly survey after the first annual survey. This has been accurately updated in burden estimates and in the information collection package.

Finally, one commenter reported that if they are required to modify their systems to provide the information subject to this ICR, grant funding would be necessary and it would require a long time period to complete these efforts. FMCSA does not intend for States to be required to modify their existing systems, and believes most of the information required should be readily available to a certain degree of granularity.

Public Comments Invited: You are asked to comment on any aspect of this information collection, including: (1) Whether the proposed collection is necessary for the FMCSA to perform it's functions; (2) the accuracy of the estimated burden; (3) ways for the FMCSA to enhance the quality, usefulness, and clarity of the collected information; and (4) ways that the burden could be minimized without reducing the quality of the collected information.

Issued under the authority delegated in 49 CFR 1.87 on: March 9, 2017.
G. Kelly Regal,
Associate Administrator for Office of Research and Information Technology.

[FR Doc. 2017-05523 Filed 3-20-17; 8:45 am]

BILLING CODE 4910-EX-P